DEPARTMENT OF COMMERCE

National Oceanic and Atmospheric Administration

RIN 0648-XE402

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (Council) will hold a meeting to develop recreational blueline tilefish catch estimates.

DATES: The meeting will be held on Thursday, February 4, 2016, beginning at 8:30 a.m. For agenda details, see SUPPLEMENTARY INFORMATION.

ADDRESSES: The meeting will at the DoubleTree by Hilton Baltimore-BWI Airport; 890 Elkridge Landing Rd, Linthicum Heights, MD 21090.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The Council will host a panel of fishermen to help develop recreational blueline tilefish catch estimates in the Mid-Atlantic. Briefing documents will be posted to http://www.mafmc.org/actions/blueline-tilefish when available. The meeting will begin at 8:30 a.m. and should finish by 5 p.m.

Special Accommodations

This meeting is physically accessible to people with disabilities. Requests for sign language interpretation or other auxiliary aid should be directed to M. Jan Saunders, (302) 526-5251, at least 5 days prior to the meeting date.

Dated: January 13, 2016.
Tracey L. Thompson,
Acting Deputy Director, Office of Sustainable Fisheries, National Marine Fisheries Service.

[FR Doc. 2016-00839 Filed 1-15-16; 8:45 am]

BILLING CODE 3510-22-P